DEPARTMENT OF HOUSING AND URBAN DEVELOPMENT

[Docket No. FR-5044-N-04]

Notice of Proposed Information Collection for Public Comment: PHA Plans Standard Template

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: May 30, 2006.

ADDRESSES: Interested persons are invited to submit comments regarding this proposal. Comments should refer to the proposal by name/or OMB Control number and should be sent to: Aneita Waites, Reports Liaison Officer, Public and Indian Housing, Department of Housing and Urban Development, 451 7th Street SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB review, as required by the Paperwork Reduction Act of 1995 (44 U.S.C. Chapter 35, as amended) This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses. The notice also lists the following information:

Title of Proposal: Public Housing Agency (PHA) Plan.

OMB Control Number: 2577-0226.

Description of the Need for the Information and Proposed Use: This proposed rules extends the use of the previously OMB approved template for the Public Housing Five-Year and Annual Plan. Public housing Agencies (PHAs) submit an annual plan for each fiscal year for which the PHA received tenant-based assistance and public housing operating subsidy. This plan provides a framework for local accountability and to the extent possible, an easily identifiable source by which public housing residents, participants in the housing choice voucher program, and other members of the public may locate housing and services. The PHA plan is a Web-based application (allowing PHAs to retrieve the applicable templates) that allows PHAs to provide their plans to HUD via the Internet. The system allows HUD to track plans every year with limited reporting and any changes from the previous submission.

Agency Form Number: HUD-50075, HUD-50075 SA, HUD-50075 SF.

Members of the Affected Public: State or local government.

Estimation of the total number of hours needed to prepare the information collection including number of respondents:

| Standard 5-year plan & annual plan | Standard annual plan (years 1-4) | Stream-lined annual plan | Troubled agency annual plan | Deregulated streamlined annual plan (yrs 1-4) | Deregulated streamlined 5-year plan & annual plan
PHA Plan Component and burden hours by plan type |  |  | (¹) |  | (²) | (²)
PHA Identification Page | 0.1 | 0.1 | 0.1 | 0.1 | 0.1 | 0.1
5-Year plan (24 CFR 903.5) | 1 | 0 | 0 | 0 | 0 | 0
ii. Executive Summary of the Annual PHA Plan | 0 | 0 | 0 | 0 | 0 | 0
Summary of Policy & Program Changes (Small PHA Update) | 0 | 0 | 0 | 0 | 0 | 0
List of Policy and Program Changes (deregulated and streamlined plan) | 0 | 0 | 0 | 0 | 1 | 0
iii. ANNUAL PLAN TABLE OF CONTENTS | 0.25 | 0.25 | 0.25 | 0.25 | 0.1 | 0.1
1. Housing Needs | 4 | 4 | 4 | 0 | 0 | 4
2. Financial Resources | 2 | 2 | 2 | 2 | 0 | 2
3. Policies on Eligibility, Selection, and Admissions | 2 | 2 | 2 | 2 |  | 2
Site-based waiting lists (only) |  |  |  |  | 1 |
4. Rent Determination Policies | 1 | 1 | 1 | 1 |  | 1
5. Operations & Management | 1 | 1 | 0 | 1 | 0 | 0
6. Grievance Procedures | 1 | 1 | 0 | 1 | 0 | 0
7. Capital Improvements Needs | 16 | 16 | 16 | 16 | 8 | 8
8. Demolition and Disposition | 1 | 1 | 1 | 1 | 0 | 1
9. Designation of Housing | 1 | 1 | 0 | 1 | 0 | 0
10. Conversions of Public Housing | 1 | 1 | 1 | 1 | 0 | 0
11. Homeownership (all) | 1 | 1 | 0 | 0 |  | 1
Section 8(y) only 1 |  |  |  |  | 0.5 |
12. Community Service and Self-Sufficiency | 2 | 2 | 0 | 2 | 0 | 2
13. Crime and Safety | 0.5 | 0.5 | 0.5 | 0.5 | 0 | 0.5
14. Pets | 1 | 1 | 1 | 0 | 0 | 0
15. Civil Rights Certification | 0.5 | 0.5 | 0.5 | 0.5 | 0.5 | 0.5
16. Audit | 0.5 | 0.5 | 0.5 | 0.5 | 0 | 0
17. Asset Management | 2 | 2 | 0 | 2 | 0 | 0
18. Other Information: Progress meeting 5-Year goals; Resident membership of Board; RAB recommendations and PHA response; PHA statement of consistency with Consolidated Plan; PHA criteria for substantial deviations and significant amendments; List of supporting documents | 8 | 8 | 8 | 8 | 0 | 8
Use of Project-based vouchers | 0.5 | 0.5 | 0.5 | 0.5 | 0.5 | 0.5
Budget/MOA/plan to improve (troubled PHAs only) | 0 | 0 | 0 | 2 | 0 | 0
BURDEN HOURS Per Response | 47.35 | 46.35 | 38.35 | 42 | 9.5 | 30.7
Number of Respondents This Plan Type | 632 | 132 | 500 | 83 | 3,385 | 3,385
Total Burden Hours All Respondents This Plan Type | 29,925 | ³ 6,118 | ³ 19,175 | ³ 3,486 | ³ 32,157 | 103,919.5
Total burden over five years | 29,925 | 24,472 | 76,700 | 13,944 | 128,628 | 103,920
¹ High Performer.
² Small PHA.
³ Per year.

Status of the Proposed Information Collection: Reinstatement of previously approved collection.

Authority: Section 3506 of the Paperwork Reduction Act of 1995, 44 U.S.C. chapter 35, as amended.

Dated: March 17, 2006.
Glenda N. Green,
Deputy Director for Policy and Legislative Initiatives.

[FR Doc. E6-4412 Filed 3-27-06; 8:45 am]

BILLING CODE 4210-67-P